DEPARTMENT OF HOMELAND SECURITY

Coast Guard

[Docket No. USCG-2018-1085]

RIN 1625-AA09

Extension of Comment Period for the Draft Environmental Assessment for the Proposed Construction of Railroad Bridges Across Sand Creek and Lake Pend Oreille at Sandpoint, Bonner County, Idaho

AGENCY: Coast Guard, DHS.

ACTION: Extension of comment period.

SUMMARY: The United States Coast Guard is extending the comment period for the draft Environmental Assessment (EA) which appeared in the Federal Register on February 6, 2019 for the proposed construction of railroad bridges across Lake Pend Oreille and Sand Creek at Sandpoint, Bonner County, Idaho. The draft EA addresses environmental impacts and socioeconomic effects related to the proposed construction of railroad bridges built parallel to existing bridges crossing the same waterbodies. The comment period has been extended an additional 30 days to May 1, 2019.

DATES: Comments and related material must be submitted to the online docket at http://www.regulations.gov or reach the Docket Management Facility on or before May 1, 2019.

ADDRESSES: You may submit comments identified by docket number USCG-2018-1085 using the Federal eRulemaking Portal at http://www.regulations.gov. The direct link to the draft EA and related documents is: https://www.regulations.gov/docket?D=USCG-2018-1085.

FOR FURTHER INFORMATION CONTACT: If you have questions on this notice please contact Mr. Steven Fischer, District Bridge Manager, Thirteenth Coast Guard District, U.S. Coast Guard; telephone 206-220-7282.

Dated: March 27, 2019.
Brian L. Dunn,
Chief, Office of Bridge Programs, U.S. Coast Guard.

[FR Doc. 2019-06241 Filed 3-29-19; 8:45 am]

BILLING CODE 9110-04-P